DEPARTMENT OF TRANSPORTATION

Federal Aviation Administration

14 CFR Part 71

[Docket No. FAA-2002-14075; Airspace Docket No. 02-AAL-7]

Establishment of Class E Airspace; Wasilla, AK

AGENCY: Federal Aviation Administration (FAA), DOT.

ACTION: Final rule; correction.

SUMMARY: The FAA published in the Federal Register of January 2, 2003 (68 FR 44), Docket Number FAA 2002-14075; Airspace Docket Number 02-AAL-7, a final rule for the establishment of Class E Airspace for the Wasilla Airport, AK. The coordinates of the Airport Reference Point (ARP) for the Wasilla Airport were wrong. This action corrects the coordinates.

EFFECTIVE DATE: 0901 UTC, May 15, 2003.

FOR FURTHER INFORMATION CONTACT: Derril Bergt, Operations Branch, AAL-538, Federal Aviation Administration, 222 West 7th Avenue, Box 14, Anchorage, AK 99513-7587; telephone number (907) 271-2796; fax: (907) 271-2850; e-mail: Derril.ctr.Bergt@faa.gov. Internet address: http://www.alaska.faa.gov/at.

SUPPLEMENTARY INFORMATION: Federal Register Document 02-33129, Docket Number FAA 2002-14075; Airspace Docket Number 02-AAL-7, published on January 2, 2003 (68 FR 44) established the Class E airspace area at Wasilla, AK. The coordinates for the ARP read “Wasilla Airport, AK (lat. 61° 34′ 08″ N, long. 149° 32′ 25″ W).” This should read “Wasilla Airport, AK (lat. 61° 34′ 17″ N, long. 149° 32′ 26″ W).” This action corrects the coordinates that were wrong.

Correction to Final Rule

Accordingly, pursuant to the authority delegated to me, the legal description for the Wasilla Airport, AK as published in the Federal Register (68 FR 44), and in corporated by reference in 14 CFR 71.1, is corrected as follows:

§ 71.1 [Corrected]

In the rule FR Document 02-33129, published on January 2, 2003 make the following correction to page 45.

* * * * *

AAL AK E5 Wasilla, AK [Corrected]

Wasilla Airport, AK

(Lat. 61° 34′ 17″ N., long. 149° 32′ 26″ W.)

That airspace extending upward from 700 feet above the surface within a 6.5-mile radius of the Wasilla Airport excluding Big Lake Class E Airspace.

* * * * *

Issued in Anchorage, AK, on February 5, 2003.
Trent S. Cummings,
Manager, Air Traffic Division, Alaskan Region.

[FR Doc. 03-3962 Filed 2-18-03; 8:45 am]

BILLING CODE 4910-13-P